DEPARTMENT OF ENERGY

Federal Energy Regulatory Commission

Combined Notice of Filings #1

March 9, 2010.

Take notice that the Commission received the following electric rate filings:

Docket Numbers: ER03-721-015.

Applicants: New Harquahala Generating Company, LLC.

Description: New Harquahala Generating Company, LLC's Updated Market Power Analysis.

Filed Date: 03/08/2010.

Accession Number: 20100308-5099.

Comment Date: 5 p.m. Eastern Time on Friday, May 7, 2010.

Docket Numbers: ER09-502-004; ER09-666-005; ER09-667-005; ER09-668-005; ER09-669-005; ER09-670-005; ER09-671-005; ER10-702-001.

Applicants: EDF Development Inc., EDFD-Handsome Lake, EDFD-Perryman, EDFD-Keystone, EDFD-Conemaugh, EDFD-C.P. Crane, EDFD-West Valley, EDF Inc.

Description: Triennial Update and Request for Confirmation of EDF Development Inc., et al.

Filed Date: 03/08/2010.

Accession Number: 20100308-5124.

Comment Date: 5 p.m. Eastern Time on Friday, May 7, 2010.

Docket Numbers: ER10-92-004.

Applicants: EDF Trading North America, LLC.

Description: Triennial Update of EDF Trading North America, LLC.

Filed Date: 03/08/2010.

Accession Number: 20100308-5125.

Comment Date: 5 p.m. Eastern Time on Friday, May 7, 2010.

Docket Numbers: ER10-711-001.

Applicants: Respond Power LLC.

Description: Respond Power submits the Amended Petition for Acceptance of Initial Tariff, Waivers and Blanket Authority.

Filed Date: 03/08/2010.

Accession Number: 20100309-0202.

Comment Date: 5 p.m. Eastern Time on Monday, March 29, 2010.

Docket Numbers: ER10-843-000.

Applicants: Southern California Edison Company.

Description: Southern California Edison Company submits Standard Large Generator Interconnection Agreement between SCE, et al. and CAISO, Service Agreement 55 under SCE's Transmission Owner Tariff, FERC Electric Tariff etc.

Filed Date: 03/08/2010.

Accession Number: 20100308-0213.

Comment Date: 5 p.m. Eastern Time on Monday, March 29, 2010.

Docket Numbers: ER10-844-000.

Applicants: Tampa Electric Company.

Description: Tampa Electric Co submits a Non-Conforming Service Agreement with the Orlando Utilities Commission.

Filed Date: 03/08/2010.

Accession Number: 20100308-0214.

Comment Date: 5 p.m. Eastern Time on Monday, March 29, 2010.

Docket Numbers: ER10-845-000.

Applicants: Alcoa Power Generating Inc.

Description: Alcoa Power Generating Inc submits an amendment to its Electric Rate Schedule FERC No. 19 the Exchange Agreement with Tennessee Valley Authority.

Filed Date: 03/08/2010.

Accession Number: 20100309-0201.

Comment Date: 5 p.m. Eastern Time on Monday, March 29, 2010.

Docket Numbers: ER10-846-000.

Applicants: Florida Power Corporation.

Description: Florida Power Corp submits amendments to the Power Sales Agreement with the City of Winter Park, Florida.

Filed Date: 03/08/2010.

Accession Number: 20100309-0203.

Comment Date: 5 p.m. Eastern Time on Monday, March 29, 2010.

Take notice that the Commission received the following electric securities filings:

Docket Numbers: ES10-28-000.

Applicants: NorthWestern Corporation.

Description: Application of NorthWestern Corporation for Authorization to Issue Securities and Request for Shortened Comment Period.

Filed Date: 03/08/2010.

Accession Number: 20100308-5094.

Comment Date: 5 p.m. Eastern Time on Monday, March 29, 2010.

Take notice that the Commission received the following electric reliability filings:

Docket Numbers: RR08-4-005.

Applicants: North American Electric Reliability Corporation.

Description: Compliance Filing of the North American Electric Reliability Corporation in Response to the Order on Violation Severity Levels Proposed by the ERO.

Filed Date: 03/05/2010.

Accession Number: 20100305-5166.

Comment Date: 5 p.m. Eastern Time on Friday, March 26, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-5894 Filed 3-17-10; 8:45 am]

BILLING CODE 6717-01-P